DEPARTMENT OF THE INTERIOR

Bureau of Reclamation

Millerton Lake Resource Management Plan and General Plan, Fresno and Madera Counties, CA

AGENCY: Bureau of Reclamation, Interior.

ACTION: Notice of intent to prepare a programmatic environmental impact statement/environmental impact report for a resource management plan and general plan.

SUMMARY: Pursuant to Section 102(2)(c) of the National Environmental Policy Act (NEPA), Reclamation proposes to prepare a Programmatic Environmental Impact Statement/Environmental Impact Report (PEIS/EIR) for the Millerton Lake Resource Management Plan (RMP) and General Plan, which will be issued concurrent with the PEIS/EIR. A scoping meeting will be conducted to elicit comments on the scope and issues to be addressed in the PEIS/EIR. The date and time for this meeting is noted below. The draft RMP/General Plan and draft PEIS/EIR are expected to be issued in early 2003.

DATES: The scoping meeting will be held on February 12, 2003, at 6:30 p.m. in Friant, California. Written comments should be sent to Reclamation at the address below by March 5, 2003.

ADDRESSES: The meeting location is at the Millerton Courthouse, Millerton State Recreation Area, 5290 Millerton Road, Friant, California 93626.

Written comments on the scope of the alternatives and impacts should be sent to Mr. Dan Holsapple, Bureau of Reclamation, South-Central California Area Office, 1243 N Street, Fresno, CA 93721-1813; or faxed to 559-487-5130 (TDD 559-487-5933).

FOR FURTHER INFORMATION CONTACT: Mr. Dan Holsapple, Bureau of Reclamation, at the above address, telephone: 559-487-5409.

SUPPLEMENTARY INFORMATION: Millerton Lake is located in the southern portion of California's Central Valley in Fresno and Madera counties. The lake lies in the upper San Joaquin River Watershed. The San Joaquin River has an average annual inflow of 1,860,000 acre-feet upstream of Friant Dam. Millerton Lake was created in 1942 by the construction of Friant Dam, approximately 25 miles northeast of Fresno. The dam is a concrete gravity structure, 319 feet high and 3,488 feet wide at its crest. Millerton Lake has a total storage capacity of 520,500 acre-feet and supplies water to the Central Valley Project water users. The lake and the majority of adjacent lands are owned by Reclamation. Land within the project area is managed by Reclamation and the California Department of Parks and Recreation.

Millerton Lake is a multi-purpose facility, supplying agricultural irrigation water, flood control, and recreational functions such as boating, fishing, camping, and swimming. The lake receives approximately 600,000 visitor days per year. Operation of the reservoir requires evacuation of a large portion of the storage space prior to the rainy season. Due to its small capacity compared to the potential runoff from the watershed, it is necessary to draw down water levels annually to its minimum pool in order to make effective use of available storage space. Thus, there is little opportunity to carry over water from one season to another.

Reclamation is preparing an RMP and General Plan for the Millerton Lake area. The RMP will specifically address the Millerton Lake State Recreation Area, including the entire lake and all Reclamation land surrounding the lake. The objectives of the joint plan are to establish management objectives, guidelines, and actions to be implemented by Reclamation directly, or through its recreation contract with the California Department of Parks and Recreation, that will protect the water supply and water quality functions of Millerton Lake; protect and enhance natural and cultural resources in the Recreation Area, consistent with Federal law and Reclamation policies; and provide recreational opportunities and facilities consistent with the Central Valley Project purposes, and Reclamation policies. In addition, the General Plan is the primary management guideline for defining a framework for resource stewardship, interpretation, facilities, visitor use, and services. General plans define an ultimate purpose, vision, and intent for management through goal statements, guidelines, and broad objectives, but stop short of defining specific objectives, methodologies, and designs on how to accomplish these goals.

The development of the RMP and General Plan will be performed within the authorities provided by the Congress through the Reclamation Act, Federal Water Project Recreation Act, Reclamation Recreation Management Act, and applicable agency and Department of the Interior policies and the California Public Resources Code Division 5.

The RMP and General Plan shall be a long-term plan (with an approximate 20-year planning horizon) that will guide specific actions in the Millerton Lake State Recreation Area and on Reclamation lands surrounding the lake. The RMP and General Plan will be developed based on a comprehensive inventory of environmental resources and Project facilities. It will include an analysis of resources in the area, identification of land use suitability and capability, and development of management policies, objectives, responsibilities, guidelines, and plans. Resource areas to be addressed in the RMP and General Plan include: Soils and geology, biology, cultural resources, water resources, hydrology, groundwater and water quality, land use, transportation/traffic, rangeland, fire/fuels management, hazardous materials, recreation, and park administration. Data from these resource areas will be included in a GIS database, as available.

The RMP and General Plan will enable managers to make land use and resource decisions that are consistent with the overall management objectives of Reclamation land and water areas, while meeting the needs of the public. The RMP and General Plan will assist Reclamation in its efforts to minimize conflicts among the competing interests and types of use at Millerton Lake.

The RMP and General Plan will be developed through a cooperative effort between the Federal and State agencies and the public in an effort to manage the similar resources in the area as one. The plan will be developed with input from other Federal agencies such as U.S. Fish and Wildlife Service, the U.S. Forest Service, and the Bureau of Land Management; involved state agencies such as the California Department of Fish and Game and the California Department of Forestry and Fire Protection; and local involved agencies such as Friant Water Users Authority and the Chowchilla Madera Water and Power Authority; and the general public.

The environmental impacts of the RMP and General Plan and associated alternatives will be assessed in a PEIS/EIR that will be prepared concurrent with the RMP and General Plan. The environmental review will focus on the potential for management actions to cause adverse environmental impacts to natural and cultural resources such as water quality, endangered species, public safety, and historic resources. It will include an analysis of alternative land, recreation, and natural resource management approaches. The joint document will be programmatic in nature in that it will be used as a planning tool to guide future resource management. Specific projects will tier off this programmatic document and will have their own environmental process and report.

It is Reclamation's practice to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 4, 2002.
Frank Michny,
Regional Environmental Officer, Mid-Pacific Region.

[FR Doc. 03-2390 Filed 1-31-03; 8:45 am]

BILLING CODE 4310-MN-P